EXPORT-IMPORT BANK

Sunshine Act Meetings

ACTION: Notice of a Partially Open Meeting of the Board of Directors of the Export-Import Bank of the United States.

Time And Place: Monday, September 29, 2014 at 10:30 a.m. The meeting will be held at Ex-Im Bank in Room 1125, 811 Vermont Avenue NW., Washington, DC 20571.

Open Agenda Items: Item No. 1: PEFCO Secured Notes Resolutions for FY 2015.

Public Participation: The meeting will be open to public observation for Item No. 1 only.

Further Information: Members of the public who wish to attend the meeting should call Joyce Stone, Office of the Secretariat, 811 Vermont Avenue NW., Washington, DC 20571, (202) 565-3336 by close of business Tuesday, September 23, 2013.

Lloyd Ellis,
Program Specialist, Office of the General Counsel.

[FR Doc. 2014-22108 Filed 9-12-14; 11:15 am]

BILLING CODE 6690-01-P